DEPARTMENT OF DEFENSE

48 CFR Part 219 and Appendix I to Chapter 2

[DFARS Case 2004-D028]

Defense Acquisition Regulations System; Defense Federal Acquisition Regulation Supplement; DoD Pilot Mentor-Protégé Program

AGENCY: Defense Acquisition Regulations System, Department of Defense (DoD).

ACTION: Final rule.

SUMMARY: DoD has adopted as final, without change, an interim rule amending the Defense Federal Acquisition Regulation Supplement (DFARS) to implement Sections 841 and 842 of the National Defense Authorization Act for Fiscal Year 2005. Section 841 extends the length of the DoD Pilot Mentor-Protégé Program for 5 additional years. Section 842 expands the Program to permit service-disabled veteran-owned small business concerns and HUBZone small business concerns to participate in the Program as protégé firms.

EFFECTIVE DATE: January 23, 2006.

FOR FURTHER INFORMATION CONTACT: Ms. Deborah Tronic, Defense Acquisition Regulations System, OUSD(AT&L)DPAP(DARS), IMD 3C132, 3062 Defense Pentagon, Washington, DC 20301-3062. Telephone (703) 602-0289; facsimile (703) 602-0350. Please cite DFARS Case 2004-D028.

SUPPLEMENTARY INFORMATION:

A. Background

DoD published an interim rule at 70 FR 29644 on May 24, 2005, to implement Sections 841 and 842 of the National Defense Authorization Act for Fiscal Year 2005 (Pub. L. 108-375). Section 841 extends, through September 30, 2010, the period during which companies may enter into agreements under the DoD Pilot Mentor-Protégé Program; and extends, through September 30, 2013, the period during which mentor firms may incur costs that are eligible for reimbursement or credit under the Program. Section 842 expands the Program to permit service-disabled veteran-owned small business concerns and HUBZone small business concerns to participate in the Program as protégé firms.

One source submitted comments on the interim rule. The respondent supported the rule, but recommended that DoD amend the rule to permit historically black colleges and universities and minority institutions (HBCU/MIs) to participate in the Program as protégé firms. DoD was unable to adopt this recommendation, as there is presently no statutory authority that would permit expanding the Program to include HBCU/MIs. Therefore, DoD has adopted the interim rule as a final rule without change.

This rule was not subject to Office of Management and Budget review under Executive Order 12866, dated September 30, 1993.

B. Regulatory Flexibility Act

DoD has prepared a final regulatory flexibility analysis consistent with 5 U.S.C. 604. A copy of the analysis may be obtained from the point of contact specified herein. The analysis is summarized as follows:

This final rule implements Sections 841 and 842 of the National Defense Authorization Act for Fiscal Year 2005 (Pub. L. 108-375). Section 841 extends, through September 30, 2010, the period during which companies may enter into agreements under the DoD Pilot Mentor-Protégé Program; and extends, through September 30, 2013, the period during which mentor firms may incur costs that are eligible for reimbursement or credit under the Program. Section 842 expands the Program to permit service-disabled veteran-owned small business concerns and HUBZone small business concerns to participate in the Program as protégé firms. The Program provides incentives for DoD contractors to assist protégé firms in enhancing their capabilities and increasing their participation in Government and commercial contracts.

DoD received no public comments in response to the initial regulatory flexibility analysis. However, DoD received a comment in response to the interim rule that recommended amendment of the rule to permit historically black colleges and universities and minority institutions (HBCU/MIs) to participate in the DoD Pilot Mentor-Protégé Program as protégé firms. DoD was unable to adopt this recommendation, as there is presently no statutory authority that would permit expanding the Program to include HBCU/MIs.

Presently, there are 5,737 service-disabled veteran-owned small business concerns and 12,281 HUBZone small business concerns registered in the Central Contractor Registration database; and presently, there are 134 active mentor-protégé agreements. Each protégé firm must provide data to its mentor firm, annually for submission to the Government, regarding the progress of the protégé firm in employment, revenues, and participation in DoD contracts. The data is required for each fiscal year of the Program participation term and for each of the two fiscal years following the expiration of the Program participation term. This information should be readily available to a company as part of its normal business practices.

The rule is expected to have a beneficial impact on service-disabled veteran-owned small business concerns and HUBZone small business concerns. There are no known significant alternatives to the rule. Participation in the DoD Pilot Mentor-Protégé Program is voluntary.

C. Paperwork Reduction Act

The information collection requirements of the DoD Pilot Mentor-Protégé Program have been approved by the Office of Management and Budget under Control Number 0704-0332, for use through May 31, 2007.

List of Subjects in 48 CFR Part 219

Government procurement.

Michele P. Peterson,
Editor, Defense Acquisition Regulations System.

Interim Rule Adopted as Final Without Change

Accordingly, the interim rule amending 48 CFR Part 219 and Appendix I to Chapter 2, which was published at 70 FR 29644 on May 24, 2005, is adopted as a final rule without change.

[FR Doc. 06-568 Filed 1-20-06; 8:45 am]

BILLING CODE 5001-08-P